FEDERAL COMMUNICATIONS COMMISSION

47 CFR Part 90

[PR Docket No. 92-235; FCC 01-174]

Replacement of Part 90 by Part 88 To Revise the Private Land Mobile Radio Services and Modify the Policies Governing Them and Examination of Exclusivity and Frequency Assignment Policies of the Private Land Mobile Services

AGENCY: Federal Communications Commission.

ACTION: Final rule; petitions for reconsideration.

SUMMARY: This document disposes of two substantially identical petitions for reconsideration or clarification submitted in response to the Commission's Final rule. The petitions are denied on procedural grounds as untimely; however, the Commission addresses petitioners' concern by treating the petitions as requests for interpretation of the Commission's rule.

ADDRESSES: Federal Communications Commission, Room 1-C804, 445 12th Street, SW., Washington, DC 20554.

FOR FURTHER INFORMATION, CONTACT: Michael J. Wilhelm, 445 12th Street, SW., Room 4C305, Washington, DC 20554; telephone 202.418.0680; email mwilhelm @ fcc.gov.

SUPPLEMENTARY INFORMATION: This is a summary of the Commission's Sixth Memorandum Opinion and Order (Sixth MO&O) in WT Docket 92-225 released May 25, 2001. The complete text of this Sixth MO&O is available for inspection and copying during normal business hours in the FCC Reference Information Center, Courtyard Level, 445 12th Street, SW., Washington, DC 20554; and also is available from the Commission's copying contractor, International Transcription Services (ITS, Inc.) Courtyard Level, 445 12th Street, SW., Washington, DC 20554. The Sixth MO&O addressed two petitions for reconsideration directed to 47 CFR § 90.261 as amended in the Fifth Memorandum Opinion and Order 66 FR 8899 2/5/01.

1. In substantially identical petitions for reconsideration, the Alarm Industry Communications Committee of the Central Station Alarm Association (AICC) and Blooston, Mordkofsky, Dickens, Duffy and Prendergrast (Blooston) sought clarification concerning whether 47 CFR 90.261(a) could be construed to render Central Station Alarm stations as fixed, and hence secondary, facilities.

2. Because both petitioners' petitions were based on a June 26, 2000, letter from the Public Safety and Private Wireless Division, and because more than 30 days had elapsed thereafter, the petitions were dismissed as untimely pursuant to 47 CFR 1.5 and 1.429. However, the Commission treated the petitions as requests for interpretation of 47 CFR 90.261 and held that that rule did not operate to classify Central Station Alarm stations as fixed, secondary facilities.

Federal Communications Commission.
William F. Caton,
Deputy, Secretary.

[FR Doc. 01-15314 Filed 6-15-01; 8:45 am]

BILLING CODE 6712-01-P